DEPARTMENT OF COMMERCE

International Trade Administration

[A-533-840]

Certain Frozen Warmwater Shrimp From India: Preliminary Results of Antidumping Duty Changed Circumstances Review

AGENCY: Enforcement and Compliance, International Trade Administration, Department of Commerce.

SUMMARY: The Department of Commerce (Commerce) preliminarily determines that Sunrise Seafoods India Private Limited (SSIPL) is the successor-in-interest to Sunrise Aqua Food Exports (SAFE) in the context of the antidumping duty order on certain frozen warmwater shrimp (shrimp) from India.

DATES: Applicable August 12, 2019.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On December 26, 2018, in response to a request by SSIPL, Commerce published a notice of initiation of changed circumstances review to consider whether SSIPL is the successor-in-interest to SAFE.¹ On March 5, 2019, we issued a supplemental questionnaire to SSIPL,² and we received a response during the same month.³

¹ See Certain Frozen Warmwater Shrimp from India: Initiation of Antidumping Duty Changed Circumstances Review, 83 FR 66244 (December 26, 2018).

² See Commerce's Letter, “Certain Frozen Warmwater Shrimp from India: Successor-In-Interest Changed Circumstances Review Supplemental Questionnaire,” dated March 5, 2019.

³ See SSIPL's March 15, 2019 Supplemental Questionnaire Response (SSIPL March 15, 2019 SQR).

Scope of the Order

The merchandise subject to the order is certain frozen warmwater shrimp.⁴ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁴ For a complete description of the Scope of the Order, see Memorandum, “Certain Frozen Warmwater Shrimp from India: Preliminary Results of Changed Circumstances Review,” dated concurrently with this notice.

Preliminary Results

In this changed circumstances review, pursuant to section 751(b) of the Tariff Act of 1930, as amended (the Act), Commerce conducted a successor-in-interest analysis. In making a successor-in-interest determination, Commerce examines several factors, including, but not limited to, changes in the following: (1) Management; (2) production facilities; (3) supplier relationships; and (4) customer base.⁵ While no single factor or combination of factors will necessarily provide a dispositive indication of a successor-in-interest relationship, generally, Commerce will consider the new company to be the successor to the previous company if the new company's resulting operation is not materially dissimilar to that of its predecessor.⁶ Thus, if the record evidence demonstrates that, with respect to the production and sale of the subject merchandise, the new company operates as the same business entity as the predecessor company, Commerce may assign the new company the cash deposit rate of its predecessor.⁷

⁵ See, e.g., Certain Frozen Warmwater Shrimp from India: Initiation and Preliminary Results of Antidumping Duty Changed Circumstances Review, 83 FR 37784 (August 2, 2018) (Shrimp from India Preliminary Results), unchanged in Certain Frozen Warmwater Shrimp from India: Notice of Final Results of Antidumping Duty Changed Circumstances Review, 83 FR 49909 (October 3, 2018) (Shrimp from India Final Results).

⁶ See, e.g., Shrimp from India Preliminary Results, 83 FR at 37784, unchanged in Shrimp from India Final Results, 83 FR at 49909.

⁷ See Shrimp from India Preliminary Results, 83 FR at 37784, unchanged in Shrimp from India Final Results, 83 FR at 49910; see also Notice of Final Results of Changed Circumstances Antidumping Duty Administrative Review: Polychloroprene Rubber from Japan, 67 FR 58, 59 (January 2, 2002); Ball Bearings and Parts Thereof from France: Final Results of Changed-Circumstances Review, 75 FR 34688, 34689 (June 18, 2010); and Circular Welded Non-Alloy Steel Pipe from the Republic of Korea; Preliminary Results of Antidumping Duty Changed Circumstances Review, 63 FR 14679 (March 26, 1998), unchanged in Circular Welded Non-Alloy Steel Pipe from Korea; Final Results of Antidumping Duty Changed Circumstances Review, 63 FR 20572 (April 27, 1998), in which Commerce found that a company which only changed its name and did not change its operations is a successor-in-interest to the company before it changed its name.

In accordance with 19 CFR 351.216, we preliminarily determine that SSIPL is the successor-in-interest to SAFE. Record evidence, as submitted by SSIPL, indicates that SSIPL operates as essentially the same business entity as SAFE with respect to the subject merchandise.⁸ For the complete successor-in-interest analysis, including discussion of business proprietary information, refer to the accompanying successor-in-interest memorandum.⁹

⁸ See SSIPL's Letter, “Frozen Warmwater Shrimp from India: Request to Initiate a Successor-in-Interest Changed Circumstances Review,” dated October 31, 2018, and SSIPL March 15, 2019 SQR.

⁹ See Memorandum, “Certain Frozen Warmwater Shrimp from India: Preliminary Results of Changed Circumstances Review,” dated concurrently with this notice.

Public Comment

Pursuant to 19 CFR 351.310(c), any interested party may request a hearing within 30 days of publication of this notice. In accordance with 19 CFR 351.309(c)(1)(ii), interested parties may submit case briefs not later than 30 days after the date of publication of this notice. Rebuttal briefs, limited to issues raised in the case briefs, may be filed no later than five days after the case briefs, in accordance with 19 CFR 351.309(d). Parties who submit case or rebuttal briefs are encouraged to submit with each argument: (1) A statement of the issue; (2) a brief summary of the argument; and (3) a table of authorities.¹⁰ All comments are to be filed electronically using Enforcement and Compliance's Antidumping and Countervailing Duty Centralized Electronic Service System (ACCESS) available to registered users at https://access.trade.gov and in the Central Records Unit, Room B8024 of the main Department of Commerce building, and must also be served on interested parties. An electronically-filed document must be received successfully in its entirety by ACCESS by 5:00 p.m. Eastern Time on the day it is due.¹¹

¹⁰ See 19 CFR 351.309(c)(2).

¹¹ See 19 CFR 351.303(b).

Consistent with 19 CFR 351.216(e), we will issue the final results of this changed circumstances review no later than 270 days after the date on which this review was initiated, or within 45 days if all parties agree to our preliminary finding. This notice is published in accordance with sections 751(b)(1) and 777(i) of the Act and 19 CFR 351.216(b), 351.221(b) and 351.221(c)(3).

Dated: August 5, 2019.
Jeffrey I. Kessler,
Assistant Secretary for Enforcement and Compliance.

[FR Doc. 2019-17100 Filed 8-9-19; 8:45 am]

BILLING CODE 3510-DS-P